NATIONAL SCIENCE FOUNDATION

Advisory Committee for Innovation Corps; Notice of Meeting

In accordance with the Federal Advisory Committee Act (Pub. L. 92-463, as amended), the National Science Foundation announces the following meeting:

Name: Innovation Corps for Advisory Committee, #80463.

Dates/Time: July 18, 2012, 12:00 p.m.-5:00 p.m.

Places: National Science Foundation, 4201 Wilson Boulevard, Room 1295, Arlington, VA 22230.

Type of Meeting: Open.

Contact Person: Dr. Dedric A. Carter, Senior Advisor for Strategic Initiatives, Office of the Director, Suite 1205, National Science Foundation, 4201 Wilson Boulevard, Arlington, VA 22230. Telephone Number: (703) 292-8002, email: dacarter@nsf.gov.

Purpose of Meeting: To provide advice and recommendations concerning Innovation Corps.

Agenda

July 18, 2012

12:00-3:00 p.m. Opening Statements by Dr. Subra Suresh, Director, NSF I-Corps Showcase

3:00 p.m.-5:00 p.m. Review and discussion of the current I-Corps projects and future directions.

Dated: June 26, 2012.
Susanne Bolton,
Committee Management Officer.

[FR Doc. 2012-16047 Filed 6-28-12; 8:45 am]

BILLING CODE 7555-01-P